FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement Nos.: 011560-006, 011561-006, 011562-007.

Titles: The TransAtlantic Bridge Agreement, The COSCO/KL TransAtlantic Vessel Sharing Agreement, The KL/YM TransAtlantic Vessel Sharing Agreement.

Parties: COSCO Container Lines Company, Ltd., Kawasaki Kisen Kaisha, Ltd., Yangming Marine Transport Corporation.

Synopsis: The proposed amendments update current and anticipated vessels alignments, include revisions to comply with European Commission regulations, and extend the agreements indefinitely.

Agreement No.: 011785-003.

Title: COSCO/KL/YMUK Asia/U.S. East and Gulf Coast/North, Europe and Mediterranean Vessel Sharing Agreement.

Parties: COSCO Container Lines Company, Ltd., Kawasaki Kisen Kaisha, Ltd., Yangming (U.K.) Ltd.

Synopsis: The proposed amendment extends the agreement's geographic scope to include North European ports and includes revisions to comply with European Commission regulations.

Dated: September 20, 2002.
By Order of the Federal Maritime Commission.
Bryant L. VanBrakle,
Secretary.

[FR Doc. 02-24352 Filed 9-24-02; 8:45 am]

BILLING CODE 6730-01-P